DEPARTMENT OF TRANSPORTATION

Federal Aviation Administration

Notice of Intent To Rule on Change in Use of Aeronautical Property at Louisville International Airport (SDF), Louisville, Kentucky

AGENCY: Federal Aviation Administration (FAA), DOT.

ACTION: Notice.

SUMMARY: The Federal Aviation Administration (FAA) is requesting public comment on a request by the Louisville Regional Airport Authority of Louisville, Kentucky, owner of the Louisville International Airport, to change a portion of airport property from aeronautical to non-aeronautical use at the Louisville International Airport. The request consists of approximately 0.24 acres to the Commonwealth of Kentucky for use as a permanent utility easement for the relocated portion of Grade Lane.

DATES: Comments must be received on or before September 8, 2017.

ADDRESSES: Comments on this notice may be mailed or delivered in triplicate to the FAA at the following address: Memphis Airports District Office, Attn: Brian A. Tenkhoff, Program Manager, 2600 Thousand Oaks Boulevard, Suite 2250, Memphis, TN 38118.

In addition, one copy of any comments submitted to the FAA must be mailed or delivered to Mr. Charles T. Miller, Executive Director, Louisville Regional Airport Authority at the following address: 700 Administration Drive, Louisville, KY 40209.

FOR FURTHER INFORMATION CONTACT: Brian A. Tenkhoff, Program Manager, Federal Aviation Administration, Memphis Airports District Office, 2600 Thousand Oaks Boulevard, Suite 2250, Memphis, TN 38118-2482. The application may be reviewed in person at this same location, by appointment.

SUPPLEMENTARY INFORMATION: The FAA proposes to rule and invites public comment on the request to release property for non-aeronautical purposes at Louisville International Airport, Louisville, KY 40209 under the provisions of 49 U.S.C. 47107(h)(2). The FAA determined that the request to release property at Louisville International Airport (SDF) submitted by the Sponsor meets the procedural requirements of the FAA and the release of the property does not and will not impact future aviation needs at the airport. The FAA may approve the request, in whole or in part, no sooner than thirty days after the publication of this notice.

The following is a brief overview of the request:

The Louisville Regional Airport Authority is proposing the release of approximately 0.24 acres to the Commonwealth of Kentucky for use as a permanent utility easement for the relocated portion of Grade Lane. In turn, allowing U.S. Department of Homeland Security to enhance security for the KYANG base at the airport. This property is located along the existing airport eastern property line extending approximately 1,400 feet along I-65. The proposed use of this property is compatible with airport operations.

Any person may inspect, by appointment, the request in person at the FAA office listed above under FOR FURTHER INFORMATION CONTACT.

Issued in Memphis, Tennessee on August 3, 2017.
Tommy L. Dupree,
Assistant Manager, Memphis Airports District Office, Southern Region.

[FR Doc. 2017-16803 Filed 8-8-17; 8:45 am]

BILLING CODE 4910-13-P